SECURITIES AND EXCHANGE COMMISSION

17 CFR Part 240

[Release No. 34-39176A; File No. S7-21-96]

RIN 3235-AG99

Lost Securityholders; Technical Amendment

AGENCY: Securities and Exchange Commission.

ACTION: Technical amendment.

SUMMARY: This document contains a technical amendment to the final regulation which was published on Tuesday, October 7, 1997, (62 FR 52229). This regulation addresses the problem of “lost securityholders” contained in § 270.17Ad-17.

EFFECTIVE DATE: March 31, 2003.

FOR FURTHER INFORMATION CONTACT: Jerry W. Carpenter, Assistant Director, or Lori R. Bucci, Special Counsel, at 202/942-4187, Office of Risk Management and Control, Division of Market Regulation, Securities and Exchange Commission, 450 Fifth Street, NW., Washington, DC 20549-1001.

SUPPLEMENTARY INFORMATION:

Background

On October 1, 1997, the Commission adopted Rule 17Ad-17 which requires transfer agents to conduct searches in an effort to locate lost securityholders.¹ Rule 17Ad-17(b)(1)(i) contains an error. In the document published in the Federal Register, the clause “contains the names of at least 50% of the United States geographic area,” was added to the rule language containing the definition of “information data base service.” That language was not approved by the Commission and did not appear in the adopting release. This correction restores the language of paragraph (b)(1)(i) to that adopted by the Commission.

¹ 17 CFR 240.17Ad-17. Securities Exchange Act Release No. 39176 (October 1, 1997), 62 FR 52229 (October 7, 1997).

As published, the final regulation contains an error which needs to be corrected.

List of Subjects in 17 CFR Part 240

Reporting and recordkeeping requirements, Securities, Transfer agents.

Accordingly, Title 17 CFR Part 240 is corrected by making the following technical amendment:

PART 240—GENERAL RULES AND REGULATIONS, SECURITIES EXCHANGE ACT OF 1934

1. The authority citation for part 240 continues to read in part as follows:

Authority: 15 U.S.C. 77c, 77d, 77g, 77j, 77s, 77z-2, 77z-3, 77eee, 77ggg, 77nnn, 77sss, 77ttt, 78c, 78d, 78e, 78f, 78g, 78i, 78j, 78j-1, 78k, 78k-1, 78l, 78m, 78n, 78o, 78p, 78q, 78s, 78u-5, 78w, 78x, 78ll, 78mm, 79q, 79t, 80a-20, 80a-23, 80a-29, 80a-37, 80b-3, 80b-4 and 80b-11, unless otherwise noted.

* * * * *

2. In § 240.17Ad-17(b)(1)(i), the phrase “contains the names of at least 50% of the United States geographic area,” is removed.

Dated: March 18, 2003.
Margaret H. McFarland,
Deputy Secretary.

[FR Doc. 03-6986 Filed 3-24-03; 8:45 am]

BILLING CODE 8010-01-P